INTERNATIONAL TRADE COMMISSION

19 CFR Part 208

Investigations Relating to Commercial Availability Under the African Growth and Opportunity Act

AGENCY: United States International Trade Commission.

ACTION: Correcting amendment.

SUMMARY: The Commission published a notice in the Federal Register on February 27, 2007 (72 FR 8624) amending its rules of practice and procedure to add a new part 208. The amendment is an interim rule and became effective on the date of publication. The notice published in the Federal Register on February 27 inadvertently identified two subsections as § 208.7(c). The Commission is amending § 208.7 by designating the second paragraph (c) as paragraph (d).

DATES: Effective on March 13, 2007.

FOR FURTHER INFORMATION CONTACT: William Gearhart, Senior Counsel, Office of the General Counsel, 202-205-3091 (e-mail: william.gearhart@usitc.gov); or Marilyn R. Abbott, Secretary to the Commission, 202-205-2000 (e-mail: marilyn.abbott@usitc.gov).

SUPPLEMENTARY INFORMATION:

List of Subjects in 19 CFR Part 208

Administrative practice and procedure, Business and industry, Customs duties, Imports, Investigations.

Accordingly, 19 CFR part 208 is corrected by making the following correcting amendment:

PART 208—INVESTIGATIONS WITH RESPECT TO COMMERCIAL AVAILABILITY OF TEXTILE FABRIC AND YARN IN SUB-SAHARAN AFRICAN COUNTRIES

1. The authority citation for part 208 continues to read as follows:

Authority: 19 U.S.C. 1335; 19 U.S.C. 3721(c).

§ 208.7 [Amended]

2. Amend § 208.7 by designating the second paragraph (c) as paragraph (d).

Issued: March 6, 2007.
By order of the Commission.
Marilyn R. Abbott,
Secretary to the Commission.

[FR Doc. E7-4456 Filed 3-12-07; 8:45 am]

BILLING CODE 7020-02-P